FEDERAL COMMUNICATIONS COMMISSION

[WT Docket No. 05-157; FCC 05-80]

Wireless Telecommunications Bureau Requests Comment on Spectrum Needs of Emergency Response Providers

AGENCY: Federal Communications Commission.

ACTION: Notice.

SUMMARY: On December 17, 2004, the President signed the Intelligence Reform and Terrorism Prevention Act of 2004 (Act) into law to reform the United States intelligence community and intelligence-related activities. Title VII of the Act implements certain recommendations of the National Commission on Terrorist Attacks Upon the United States, including a number of communications-related provisions, particularly with respect to use of the electromagnetic spectrum by Federal, State, and local emergency response providers. Among other requirements, the Intelligence Reform Act requires the Federal Communications Commission (Commission) to conduct a study to assess the short-term and long-term spectrum needs of emergency response providers, and report its findings to Congress not later than December 17, 2005.

DATES: Submit comments on or before April 28, 2005.

ADDRESSES: Federal Communications Commission, 445 12th Street, SW., Washington, DC 20554. See Supplementary Information.

FOR FURTHER INFORMATION CONTACT: David Siehl, David.Siehl@fcc.gov, Public Safety and Critical Infrastructure Division, Wireless Telecommunications Bureau, (202) 418-0680.

SUPPLEMENTARY INFORMATION: This is a summary of the Commission's Public Notice, WT Docket No. 05-157, released on March 29, 2005. Commissioner Copps issued a statement when this action was taken.

1. The Commission initiates the present proceeding pursuant to the requirements of Section 7502 of the Act. Section 7502(a) provides:

The Federal Communications Commission shall, in consultation with the Secretary of Homeland Security and the National Telecommunications and Information Administration, conduct a study to assess short-term and long-term needs for allocations of additional portions of the electromagnetic spectrum for Federal, State, and local emergency response providers, including whether or not an additional allocation of spectrum in the 700 megahertz band should be granted by Congress to such emergency response providers.

2. In addition, section 7502(c) provides that, in conducting this study, the Commission shall:

(1) Seek input from Federal, State, local, and regional emergency response providers regarding the operation and administration of a potential nationwide interoperable broadband mobile communications network; and

(2) Consider the use of commercial wireless technologies to the greatest extent practicable.

3. Finally, section 7502(d) requires the Commission to submit a report on the study, including the study's findings, to the Senate Committee on Commerce, Science, and Transportation, the Senate Committee on Homeland Security and Governmental Affairs, the House Committee on Energy and Commerce, and the House Select Committee on Homeland Security no later than one year after the date of enactment of the Intelligence Reform Act, i.e., by December 17, 2005.

4. We hereby seek input regarding the need for, operation, and administration of a potential nationwide interoperable broadband mobile communications network. In addition, we more broadly request comment from emergency response providers and other interested parties on any related issues that would provide additional pertinent information for the Commission's study, pursuant to section 7502. We ask commenters to address the future spectrum needs of the emergency responder community, for interoperability purposes and otherwise, both on a short-term basis and on a long-term basis. Commenters are encouraged to address whether or not Congress should provide an additional allocation of spectrum in the 700 MHz band for emergency response provider communications. We also ask that commenters consider the extent to which commercial wireless technologies may be used to satisfy the communications needs of emergency response providers.

5. Proponents of additional spectrum allocations to accommodate public safety interoperability, and to otherwise satisfy the spectrum needs of emergency response providers, are asked to identify specific frequency bands which can be designated for that purpose, and to offer support for the amount of spectrum identified. We also ask that these commenters discuss the potential benefits and difficulties associated with use of spectrum in the identified bands for emergency response/interoperability communications.

6. We note that, as technological innovations have created new and innovative uses for wireless technology, and as wireless communications have taken on increasing importance in emergency response incidents, the Commission has endeavored to keep pace with public safety spectrum needs. Currently, more than 97 megahertz of spectrum is allocated in support of public safety communications, including 24 megahertz in the 700 MHz band, and the designation of 50 megahertz at 4940-4990 MHz for broadband and advanced technology applications in support of public safety. Recently, the Commission reallocated television spectrum in the New York City area for public safety use to promote interoperability among area users. In addition, the Commission's recent decision in the 800 MHz band reconfiguration proceeding created access to an average of 4.5 megahertz of additional spectrum for public safety licensees. The Commission continues to evaluate its rules in light of public safety communications needs and to facilitate the deployment of interoperable networks to serve local, state, and federal entities throughout the country.

7. Comments must be filed no later than April 28, 2005. All filings concerning matters referenced in this Notice should refer to FCC 05-80 and WT Docket No. 05-157.

8. Commenters may file comments using the Commission's Electronic Comment Filing System (ECFS) or by filing paper copies. Comments filed through the ECFS can be sent as an electronic file via the Internet to http://www.fcc.gov/e-file/ecfs.html. Generally, commenters must submit only one copy of an electronic submission. If multiple docket or rulemaking numbers appear in the caption of this proceeding, however, commenters must transmit one electronic copy of the comments to each docket or rulemaking number referenced in the caption. In completing the transmittal screen, commenters should include their full name, U.S. Postal Service mailing address, and the applicable docket or rulemaking number. Commenters may also submit an electronic comment by Internet e-mail. To get filing instructions for e-mail comments, commenters should send an e-mail to ecfs@fcc.gov, and should include the following words in the body of the message, “get form <your e-mail address>.” Commenters will receive a sample form and directions in reply.

9. Parties that choose to file by paper must file an original and four copies of each filing. If more than one docket or rulemaking number appears in the caption of this proceeding, commenters must submit two additional copies for each additional docket or rulemaking number. Commenters may send filings by hand or messenger delivery, by commercial overnight courier, or by first-class or overnight U.S. Postal Service mail (although the Commission continues to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. Commenters must bind all hand deliveries together with rubber bands or fasteners and must dispose of any envelopes before entering the building. This facility is the only location where the Commission's Secretary will accept hand-delivered or messenger-delivered paper filings. Commenters must send commercial overnight mail (other than U.S. Postal Service Express Mail and Priority Mail) to 9300 East Hampton Drive, Capitol Heights, MD 20743. Commenters should address U.S. Postal Service first-class mail, Express Mail, and Priority Mail to the Office of the Secretary, Federal Communications Commission, 445 12th Street, SW., Washington, DC 20554.

10. One copy of each filing must be delivered electronically, by e-mail or facsimile, or if delivered as paper copy, by hand or messenger delivery, by commercial overnight courier, or by first-class or overnight U.S. Postal Service mail (according to the procedures set forth above for paper filings), to: (1) The Commission's duplicating contractor, Best Copy and Printing, Inc., at FCC@BCPIWEB.COM or (202) 488-5563 (facsimile); and (2) David Siehl, Public Safety and Critical Infrastructure Division, Wireless Telecommunications Bureau, at David.Siehl@fcc.gov, or (202) 418-2643 (facsimile).

11. Copies of the comments and other filings in this docket may be obtained from Best Copy and Printing, Inc. in person at 445 12th Street, SW., Room CY-B402, Washington, DC 20554, via telephone at (202) 488-5300, via facsimile at (202) 488-5563, or via e-mail at FCC@BCPIWEB.COM. The comments and other filings are also available for public inspection and copying during normal reference room hours at the following Commission office: FCC Reference Information Center, 445 12th Street, SW., Room CY-A257, Washington, DC 20554. The comments are also available electronically through the Commission's ECFS, which may be accessed on the Commission's Internet Web site at http://www.fcc.gov. Alternate formats of this Public Notice (computer diskette, large print, audio recording, and Braille) are available to persons with disabilities by contacting Brian Millin at (202) 418-7426 (voice), (202) 418-7365 (TTY), or by sending an e-mail to access@fcc.gov.

Federal Communications Commission.
Marlene H. Dortch,
Secretary.

[FR Doc. 05-7413 Filed 4-12-05; 8:45 am]

BILLING CODE 6712-01-P